DEPARTMENT OF TRANSPORTATION

Federal Motor Carrier Safety Administration

[Docket No. FMCSA-2000-7827]

Agency Information Collection Activities Under OMB Review: OMB Control Nos. 2126-0004 and 2126-0012

AGENCY: Federal Motor Carrier Safety Administration, DOT.

ACTION: Notice; request for comments.

SUMMARY: The FMCSA has sent the two Information Collection Requests (ICRs) described in this notice to the Office of Management and Budget (OMB) for review and comment. The ICRs describe each information collection and its expected burden. We published a Federal Register notice on these information collections on September 5, 2000 (65 FR 53801). The notice had a 60-day comment period. We are required to send ICRs to OMB under the Paperwork Reduction Act.

DATES: Please submit comments by April 5, 2001.

FOR FURTHER INFORMATION CONTACT: Mrs. Valerie Height, (202) 366-0901 (for 2126-0004), or Mr. Kenny Rodgers, (202) 366-4016 (for 2126-0012), Federal Motor Carrier Safety Administration, 400 Seventh Street SW., Washington, DC 20590. Office hours are from 7:30 a.m. to 4:00 p.m., e.t., Monday through Friday, except Federal holidays.

ADDRESSES: Send comments to the Office of Information and Regulatory Affairs, Office of Management and Budget, 725 Seventeenth Street NW., Washington, DC 20503, Attention: DOT Desk Officer. We particularly request your comments on whether the collection of information is necessary for the FMCSA to meet its goal of reducing truck crashes, including whether the information is useful to this goal; the accuracy of the estimate of the burden of the information collection; ways to enhance the quality, utility and clarity of the information collected; and ways to minimize the burden of the collection of information on respondents, including the use of automated collection techniques or other forms of information technology. OMB wants to receive comments within 30 days of publication of this notice in order to act on the ICR quickly.

SUPPLEMENTARY INFORMATION: 1. Title: Driver Qualification Files.

OMB Number: 2126-0004.

Background: The FMCSA requires motor carriers to maintain a driver qualification file for each commercial motor vehicle (CMV) driver that they employ. The file contains the minimum amount of information necessary to document that a driver is qualified to drive a CMV in interstate commerce.

Motor carriers and the FMCSA primarily use the driver's qualification file to ensure that a person: (1) Is physically qualified to safely operate a CMV; (2) has the experience and/or training to safely operate the type(s) of CMV he or she will be assigned to drive; (3) has the appropriate driver's license; and (4) has not been disqualified to operate a CMV.

Respondents: Motor carriers and CMV drivers.

Estimated Total Annual Burden: 941,856 hours.

2. Title: Controlled Substance and Alcohol Use and Testing.

OMB Number: 2126-0012.

Background: The FMCSA requires motor carriers to conduct alcohol and controlled substances testing on their commercial motor vehicle (CMV) drivers who drive larger CMVs (over 26,000 lbs.) requiring a commercial driver's license. The FMCSA uses the information collected to determine whether the motor carriers are using drivers who are alcohol-free and drug-free while driving trucks, buses, and other commercial motor vehicles. The reporting survey of the management information system (MIS) allows the agency to adjust the random testing rates for the industry when the industry shows performance improvements. The agency bases the adjustment upon the results of a small, statistically significant sample of motor carriers.

Respondents: 650,000 Motor carriers.

Estimated Total Annual Burden: 573,490 hours.

Authority: The Paperwork Reduction Act of 1995, 44 U.S.C. Chapter 35, as amended; and 49 CFR 1.73.

Dated: February 27, 2001.
Stephen E. Barber,
Acting Assistant Administrator and Chief Safety Officer.

[FR Doc. 01-5411 Filed 3-5-01; 8:45 am]

BILLING CODE 4910-EX-P